DEPARTMENT OF COMMERCE

15 CFR Part 23

[Docket No. 260107-0009]

RIN 0605-AA81

Removing Outdated and Overly-Prescriptive Regulations Governing the Use of Penalty Mail in the Location and Recovery of Missing Children

AGENCY: Office of the Secretary, Department of Commerce.

ACTION: Final rule.

SUMMARY: By this rule, the Department of Commerce (“Department”) is amending its regulations governing the use of penalty mail to assist in the location and recovery of missing children to remove several sections that are outdated, contain expired reporting requirements, or detail overly prescriptive internal administrative procedures. This action is necessary to streamline the Department's regulations, remove obsolete provisions, and allow for more efficient internal management of this program. The intended effect of this rule is to enhance the clarity of these regulations and provide the Department with greater administrative flexibility, thereby strengthening the Department's ability to implement this important national program.

DATES: The rule is effective January 15, 2026.

FOR FURTHER INFORMATION CONTACT: Daniel Sweeney, Senior Counsel, Office of the General Counsel, at (202) 482-1395.

SUPPLEMENTARY INFORMATION:

I. Background

The Department is amending the regulations at 15 CFR part 23, “Use of Penalty Mail in the Location and Recovery of Missing Children.” This part governs the Department's participation in a national program to assist in the location and recovery of missing children through the use of official government mail, known as penalty mail.

A. Regulatory History

In response to growing public concern over the interstate problem of missing and exploited children, Congress enacted the Missing Children's Assistance Act of 1984. This Act, along with 39 U.S.C. 3220, established a federal role in coordinating assistance for this issue. Subsequently, the Department published a final rule in the Federal Register of December 24, 1986 (51 FR 46614), establishing 15 CFR part 23. The purpose of this rule was to create internal management procedures for the Department to supplement the national effort by disseminating information about missing children on its penalty mail. The regulations were designed to be a cost-effective implementation plan that aligned with guidelines issued by the Office of Juvenile Justice and Delinquency Prevention (OJJDP). The rule established a detailed operational framework, designated the National Center for Missing and Exploited Children (NCMEC) as the sole source for photographic and biographical materials, and set priorities for distributing these materials on mail sent to the public and federal employees.

B. Description of Regulations

As relevant, § 23.2, “Contact person,” designated a specific individual within the Department at the time to serve as the central point of contact for the program. This was connected to the detailed procedures outlined in § 23.7, “Notice to Department of Commerce organizational units of implementation and procedures,” which established the specific roles and responsibilities for this Department Contact Person, as well as for the heads of the Department's various Operating Units and Administrative Support Centers. This section tasked the Contact Person with serving as the sole representative for ordering, supplying, and controlling all missing children materials from NCMEC. To support these procedural sections, § 23.6, “Definitions,” provided definitions for terms such as Operating units and Organizational units.

Additionally, the rule included provisions related to the initial implementation of the program that are now obsolete. Section 23.4, “Cost and percentage estimates,” provided the Department's initial first-year cost estimate of $39,530 and a projection that 9% of its penalty mail would be used for the program once fully implemented. Finally, § 23.5, “Report to the Office of Juvenile Justice and Delinquency Prevention,” required the Department to submit a one-time consolidated report to OJJDP by June 30, 1987. This report was to detail the Department's experiences during the initial implementation period, including costs, problems encountered, and recommendations for making the program more effective.

Following a review of these regulations, the Department has determined that certain sections are appropriate for removal for the reasons discussed below.

II. Discussion

The Department is amending its regulations governing the use of penalty mail to assist in the location and recovery of missing children by removing provisions that are obsolete, have fulfilled their purpose decades ago, or contain overly prescriptive internal administrative procedures that are not appropriate for codification in the Code of Federal Regulations. This action is part of the Department's ongoing effort to review and streamline its regulations to ensure they are current, effective, and not unduly burdensome. The removal of these sections will not weaken the Department's underlying authority or commitment to participating in this important national program.

Removal of Obsolete Administrative and Procedural Provisions

The Department is removing §§ 23.2, 23.6, and 23.7, as these sections collectively establish a detailed and rigid internal management framework for the penalty mail program that is now outdated and administratively inefficient. Specifically, § 23.2 identifies a specific contact person for the program who is now deceased, while § 23.7 outlines a highly detailed set of roles and responsibilities for this contact person, as well as for the heads of various departmental operating units and administrative support centers. Section 23.6 provides definitions for internal organizational terms that are relevant only in the context of the procedures described in § 23.7.

The Department has determined that codifying such specific internal administrative assignments and procedures in the Code of Federal Regulations is impractical and overly prescriptive. This level of detail hinders the Department's ability to adapt its internal operations and staffing to meet current needs without undertaking the formal rulemaking process. Matters of internal agency management, such as designating points of contact and assigning specific duties to personnel, are more appropriately handled through internal directives and standard operating procedures, which can be updated as necessary to maintain efficiency. Furthermore, the statute authorizing this program, 39 U.S.C. 3220, requires the Department to prescribe regulations for the use of penalty mail but does not mandate the codification of these specific internal administrative structures. Removing these sections streamlines the regulation by focusing on the program's substantive requirements while allowing the Department the flexibility to manage its internal implementation effectively.

Removal of Outdated Implementation and Reporting Requirements

The Department is also removing §§ 23.4 and 23.5, as these provisions are purely historical and have no future applicability. Section 23.4 contains cost and usage percentage estimates that were projected for the program's first year of implementation in 1986. This information is now obsolete and serves no practical purpose. Similarly, § 23.5 required the Department to submit a one-time report to the Office of Juvenile Justice and Delinquency Prevention by June 30, 1987, detailing its initial experiences with the program. The requirement in § 23.5 was fulfilled decades ago, and the provision is now legally moot. Retaining these sections in the Code of Federal Regulations clutters the regulatory text with irrelevant, historical data and expired requirements, which can cause confusion for the public. The authorizing statutes for this part do not require the ongoing codification of such historical estimates or one-time reporting mandates. The removal of these sections is a common-sense action to clean up the regulations and ensure the Code of Federal Regulations contains only current and relevant rules.

III. Classifications

A. Administrative Procedure Act

Pursuant to 5 U.S.C. 553(b)(B), the Department finds good cause to waive the prior notice and opportunity for public participation requirements of the Administrative Procedure Act for this final rule. The Department considers this rule to be uncontroversial, and has determined that prior notice and opportunity for public participation is unnecessary, because this rule only removes outdated and/or overly-prescriptive regulations that are not required by statute; public participation could not justify the continued inclusion of the such regulations under the Department's broader deregulatory policies. For the same reasons, the Department has determined that delaying the effectiveness of these amendments would be contrary to the public interest. The outdated regulations being removed by this rule currently pose a genuine risk of confusion and distraction, and the overly-prescriptive regulations being removed by this rule currently impose burdens that restrict the effective use of penalty mail in the location and recovery of missing children; the removal of these regulations will immediately improve a critical program and benefit the public at little to no cost. The Department therefore finds good cause to waive the public notice and comment period under 553(b)(B) and to waive the 30-day delay in effectiveness under 553(d).

B. Executive Orders 12866, 14192, 13132

The Office of Management and Budget has determined this rule is not significant pursuant to Executive Order (“E.O.”) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects for 15 CFR Part 23

Administrative practice and procedure, Archives and records, Infants and children, Organization and functions (Government agencies), Postal Service, Reporting and recordkeeping requirements.

Dated: January 13, 2026.
Paul Dabbar,
Deputy Secretary of Commerce.

For the reasons set forth in the preamble, the Department amends 15 CFR part 23 as follows:

PART 23—USE OF PENALTY MAIL IN THE LOCATION AND RECOVERY OF MISSING CHILDREN

1. The authority citation for part 23 continues to read as follows:

Authority: 39 U.S.C. 3220(a)(2); 5 U.S.C. 301.

§ 23.2 [Removed and reserved]

2. Remove and reserve § 23.2.

§ § 23.4 through 23.7 [Removed and reserved]

3. Remove and reserve §§ 23.4 through 23.7.

[FR Doc. 2026-00689 Filed 1-14-26; 8:45 am]

BILLING CODE 3510-17-P